DEPARTMENT OF TRANSPORTATION

Pipeline and Hazardous Materials Safety Administration

Office of Hazardous Materials Safety; Notice of Application for Special Permits

AGENCY: Pipeline and Hazardous Materials Safety Administration, DOT.

ACTION: List of Applications for Special Permits.

SUMMARY: In accordance with the procedures governing the application for, and the processing of, special permits from the Department of Transportation's Hazardous Material Regulations (49 CFR part 107, subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before August 18, 2006.

Address Comments to: Record Center, Pipeline and Hazardous Materials Safety Administration, U.S. Department of Transportation, Washington, DC 20590.

Comments should refer to the application number and be submitted in triplicate. If Confirmation of receipt of comments is desired, include a self-addressed stamped postcard showing the special permit number.

FOR FURTHER INFORMATION CONTACT: Copies of the applications are available for inspection in the Records Center, Nassif Building, 400 7th Street, SW., Washington, DC or at http://dms.dot.gov.

This notice of receipt of applications for special permit is published in accordance with Part 107 of the Federal hazardous materials transportation law (49 U.S.C. 5117(b); 49 CFR 1.53(b)).

Issued in Washington, DC, on July 13, 2006.
R. Ryan Posten,
Chief Special Permits Program, Office of Hazardous Materials, Special Permits & Approvals.

New Special Permits
Application No. | Docket No. | Applicant | Regulation(s) affected | Nature of special permits thereof
14366-N |  | The Boeing Company, Huntington Beach, CA | 49 CFR 173.62, 173.302, and 173.185 | To authorize the one-way transportation in commerce of the Orbital Express ASTRO satellite containing explosives, lithium batteries and helium in alternative packaging by motor vehicle from California to Florida. (mode 1).
14372-N |  | Landmark Aviation, Los Angeles, CA | 49 CFR 173.301(a)(1); 173.304 | To authorize the transportation in commerce of certain non-DOT specification cylinders of foreign manufacture used as components (fire extinguishers) in aircraft. (modes 1, 2, 3, 4, 5).
14373-N |  | Zippo Manufacturing Corporation, Bradford, PA | 49 CFR 173.308, 175.10, 175.30, 175.33 | To authorize the transportation of lighters in specially designed packagings for transportation by passenger-carrying aircraft. (mode 5).
14374-N |  | Union Carbide Corporation, Midland, MI | 49 CFR 173.211 | To authorize the transportation in commerce of Division 4.3 hazardous material in non-DOT specification cylinders. (modes 1, 2, 3).
14375-N |  | EaglePicher, Joplin, MO | 49 CFR 173.56, 173.62 | To authorize the transportation in commerce of certain Division 1.1A explosives in a solution of ethanol and water when transported in a specially designed packaging configuration by motor vehicle. (mode 1).
14376-N |  | BIC Consumer Products Manufacturing Co. Inc., Milford, CT | 49 CFR 171.8, 172.102, SP 168, 173.21(i) and 173.308 | To authorize the transportation in commerce of unapproved scrap lighters in various stages of final manufacturing containing Division 2.1 flammable gas by motor vehicle only for purposes of disposal. (mode 1).
14377-N |  | Department of Energy, Washington, DC | 49 CFR 173.417(a)(1)(i) | To authorize the transportation in commerce of certain radioactive materials that use an alternative method of calculating the Criticality Safety Index for transportation by motor vehicle. (mode 1).
14378-N |  | Dominion Nuclear, Connecticut, Inc., Waterford, CT | 49 CFR 173.403, 173.427(b)(1) | To authorize the one-time transportation in commerce of a Class 7 surface contaminated object in alternative packaging. (modes 1, 3).

[FR Doc. 06-6325 Filed 7-18-06; 8:45 am]

BILLING CODE 4909-60-M